DEPARTMENT OF HEALTH AND HUMAN SERVICES

Centers for Disease Control and Prevention

Conditional Sailing Order Technical Instructions and Operations Manual

AGENCY: Centers for Disease Control and Prevention (CDC), Department of Health and Human Services (HHS).

ACTION: Notice.

SUMMARY: The Centers for Disease Control and Prevention (CDC), within the Department of Health and Human Services (HHS), announces the availability of additional technical instructions and documents released under its Framework for Conditional Sailing Order (CSO). These documents apply to cruise ship operators with cruise ships operating in U.S. waters and cruise ship operators who are operating cruise ships outside of U.S. waters, but intend for their cruise ships to return to operating in U.S. waters while CDC's Conditional Sailing Order remains in effect.

DATES: These documents were available April 2, 2021 and May 5, 2021.

FOR FURTHER INFORMATION CONTACT: Jennifer Buigut, Division of Global Migration and Quarantine, Centers for Disease Control and Prevention, 1600 Clifton Road NE, MS H16-4, Atlanta, GA 30329. Phone: 404-498-1600. Email: dgmqpolicyoffice@cdc.gov.

SUPPLEMENTARY INFORMATION: On October 30, 2020 CDC issued an Agency Order establishing a framework for a phased approach to resuming cruise ship passenger operations in U.S. waters (85 FR 70153). The phased approach includes: (1) Establishment of laboratory testing of crew onboard cruise ships in U.S. waters; (2) simulated voyages designed to test a cruise ship operators' ability to mitigate COVID-19 onboard cruise ships; (3) a certification process; and (4) a return to passenger voyages in a manner that mitigates the risk of COVID-19 introduction, transmission, or spread among passengers and crew onboard ships and ashore to communities.

In the initial crew testing phase, the Order additionally contained requirements for: (1) Shoreside COVID-19 laboratory screening testing of all crew currently onboard cruise ships; (2) onboard diagnostic testing capabilities for symptomatic travelers (crew and future passengers); (3) shoreside COVID-19 laboratory screening testing of all newly embarking crew; and (4) continued compliance with complete, accurate, and acknowledged, No Sail Order Response Plans.

On April 2, 2021 CDC released Phase 2A Technical Instructions. Phase 2A Technical Instructions assists cruise ship operators in documenting the approval of U.S. port and local health authorities as a condition of receiving or retaining controlled free pratique to conduct a simulated voyage or to obtain a COVID-19 Conditional Sailing Certificate to commence restricted passenger voyages. This includes documenting the approval of U.S. port and local health authorities in developing medical care, housing, and port components (including a vaccination component).

On May 5, 2021 CDC released two documents under Phase 2B and Phase 3 of the Conditional Sailing Framework: Technical Instructions for Simulated Voyages by Cruise Ship Operators under CDC's Framework for Conditional Sailing Order and COVID-19 Operations Manual for Simulated and Restricted Voyages under the Framework for Conditional Sailing Order.

The Technical Instructions for Simulated Voyages provides technical instructions for Phase 2B of CDC's CSO for cruise ship operators to test the efficacy of their health and safety protocols in U.S. waters. In lieu of conducting a simulated voyage, a cruise ship operator's responsible officials, at their discretion, may sign and submit to CDC an attestation under 18 U.S.C. 1001 that 98 percent of crew are fully vaccinated and submit to CDC a clear and specific vaccination plan and timeline to limit cruise ship sailings to 95 percent of passengers who have been verified by the cruise ship operator as fully vaccinated prior to sailing.

CDC's oversight and inspection of cruise ships during simulated and restricted passenger voyages will be based on the Operations Manual. The findings and/or observations of these inspections will be shared with the cruise ship operator. Cruise ship operators are expected to align their health and safety protocols with any CDC findings and observations. Such findings and observations must also be incorporated into the cruise ship operator's simulated voyage after-action report or as a condition of applying for and retaining permission to conduct restricted passenger voyages. Based on these inspections, CDC may also issue additional recommendations to the cruise ship operator that the operator should consider for adoption into their health and safety protocols as best practices.

The Technical Instructions document for Cruise Ship Operator's Agreement with Port and Local Health Authorities under CDC's Framework for Conditional Sailing Order is found at https://www.cdc.gov/quarantine/cruise/instructions-local-agreements.html.

The Technical Instructions document for Simulated Voyages by Cruise Ship Operators under CDC's Framework for Conditional Sailing Order is found at https://www.cdc.gov/quarantine/cruise/ti-simulated-voyages-cso.html.

The COVID-19 Operations Manual for Simulated and Restricted Voyages under the Framework for Conditional Sailing Order is found at https://www.cdc.gov/quarantine/cruise/covid19-operations-manual-cso.html.

Authority

The Technical Instructions and Operations Manual are issued pursuant to the Framework for Conditional Sailing which was issued under the authority of Sections 361 and 365 of the Public Health Service Act (42 U.S.C. 264, 268) and 42 CFR 70.2, 71.31(b), 71.32(b).

Dated: May 5, 2021.
Sherri Berger,
Acting Chief of Staff, Centers for Disease Control and Prevention.

[FR Doc. 2021-09895 Filed 5-6-21; 4:15 pm]

BILLING CODE 4163-18-P